DEPARTMENT OF THE TREASURY

Submission for OMB Review; Comment Request

December 11, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before January 19, 2010 to be assured of consideration.

Financial Management Service (FMS)

OMB Number: 1510-0074.

Type of Review: Extension.

Title: Electronic Funds Transfer (EFT) Market Research Study.

Description: This is a generic clearance to conduct customer satisfaction surveys. The need for these surveys arises from Congressional directive that accompanied legislation enacted in 1996, as part of the Debt Collection Improvement Act (Pub. L. 104-134), expanding the scope of check recipients required to use direct deposit to receive Federal benefit payments (see 31 U.S.C. 3332). Congress directed Treasury to “study the socioeconomic and demographic characteristics of those who currently do not have Direct Deposit and determine how best to increase usage among all groups.”

Respondents: Businesses or other for-profits.

Estimated Total Burden Hours: 7,500 hours.

Clearance Officer: Wesley Powe, (202) 874-7662, Financial Management Service, Room 135, 3700 East West Highway, Hyattsville, MD 20782.

OMB Reviewer: OMB Reviewer: OIRA Desk Officer, Office of Management and Budget, Room 10235, New Executive Office Building, Washington, DC 20503, oira_submission@omb.eop.gov.

Celina Elphage,
Treasury PRA Clearance Officer.

[FR Doc. E9-30024 Filed 12-16-09; 8:45 am]

BILLING CODE 4830-01-P